DEPARTMENT OF AGRICULTURE

Animal and Plant Health Inspection Service

[Docket No. APHIS-2006-0045]

Availability of an Evaluation of Asymptomatic Citrus Fruit as a Pathway for the Introduction of Citrus Canker Disease

AGENCY: Animal and Plant Health Inspection Service, USDA.

ACTION: Notice of availability and request for comments.

SUMMARY: We are advising the public that the Animal and Plant Health Inspection Service has prepared a document titled, “Evaluation of asymptomatic citrus fruit (Citrus spp.) as a pathway for the introduction of citrus canker disease (Xanthomonas axonopodis pv. citri).” The evaluation concludes that it is highly unlikely that citrus canker could be introduced on asymptomatic, commercially produced citrus fruit that has been treated with disinfectant dips and subject to other mitigations. We are making the evaluation available to the public for review and comment.

DATES: We will consider all comments that we receive on or before June 5, 2006.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0045 to submit or view public comments and to view supporting and related materials available electronically. After the close of the comment period, the docket can be viewed using the “Advanced Search” function in Regulations.gov.

• Postal Mail/Commercial Delivery: Please send four copies of your comment (an original and three copies) to Docket No. APHIS-2006-0045, Regulatory Analysis and Development, PPD, APHIS, Station 3A-03.8, 4700 River Road Unit 118, Riverdale, MD 20737-1238. Please state that your comment refers to Docket No. APHIS-2006-0045.

Reading Room: You may read any comments that we receive on the evaluation in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Robert L. Griffin, Director, Plant Epidemiology and Risk Analysis Laboratory, Center for Plant Health Science and Technology, PPQ, APHIS, 1730 Varsity Drive, Raleigh, NC 27606-5202; (919) 855-7512.

SUPPLEMENTARY INFORMATION:

Background

We are advising the public that the Animal Plant Health Inspection Service, Plant Protection and Quarantine, Center for Plant Health Science and Technology has produced an evaluation titled, “Evaluation of asymptomatic citrus fruit, (Citrus spp.) as a pathway for the introduction of citrus canker disease (Xanthomonas axonopodis pv. citri),” which we are making available to the public for review and comment.

This evaluation concludes it is highly unlikely that citrus canker could be introduced on asymptomatic, commercially produced citrus fruit that has been treated with disinfectant dips and subject to other mitigations. Even if infected fruit were to enter a canker-free area with susceptible hosts, the establishment of citrus canker via this pathway appears to be unlikely. The evaluation further indicates that it appears there is no evidence that asymptomatic fruit can be a source of infective bacteria. According to the evaluation, in the unlikely event that viable propagules were present, the environmental and physiological conditions necessary for disease development at the precise time that an infected citrus fruit was placed in close proximity to a susceptible host is highly unlikely. Empirical data from experience and interceptions further reinforce the conclusion that the likelihood of introducing citrus canker on asymptomatic fruit is extremely low.

We are making this evaluation available for comment for 60 days. During that period, we also plan to have the evaluation peer reviewed, consistent with the Office of Management and Budget's guidelines on peer review. A copy of the peer review plan is posted on the Internet at http://www.aphis.usda.gov/about_aphis/peer_review.shtml.

The evaluation may be viewed on the Internet on the Regulations.gov Web site (see ADDRESSES above for instructions for accessing Regulations.gov). You may also request paper copies of the evaluation by calling or writing to the person listed under FOR FURTHER INFORMATION CONTACT. Please refer to the title of the evaluation when requesting copies.

The evaluation is also available for review in our reading room (information on the location and hours of the reading room is provided under the heading ADDRESSES at the beginning of this notice).

Authority: 7 U.S.C. 7701-7772 and 7781-7786; 7 CFR 2.22, 2.80, and 371.3.

Done in Washington, DC, this 3rd day of April 2006.
W. Ron DeHaven,
Administrator, Animal and Plant Health Inspection Service.

[FR Doc. E6-5015 Filed 4-5-06; 8:45 am]

BILLING CODE 3410-34-P